DEPARTMENT OF THE INTERIOR

Bureau of Land Management

[WY-030-07-1610-DQ]

Notice of Availability of Supplemental Information on Proposed Areas of Critical Environmental Concern (ACEC) and Associated Resource Use Limitations for Public Lands for the Draft Rawlins Resource Management Plan/Environmental Impact Statement (Draft RMP/EIS), Laramie, Albany, Carbon, and Eastern Sweetwater Counties, WY

AGENCY: Bureau of Land Management, Interior.

ACTION: Notice of availability.

SUMMARY: On December 17, 2004, the Bureau of Land Management (BLM) published a Notice of Availability (Vol. 69, No. 242) of the Draft Rawlins Resource Management Plan/Environmental Impact Statement for public review and comment in the Federal Register. BLM planning regulations at 43 CFR 1610.7-2 require the BLM to notify the public of proposed ACECs in a Federal Register Notice. The proposed ACECs and resource use limitations that are identified in the Draft RMP/EIS were not specifically identified in the original notice. This notice fulfills the regulatory requirements. (Supplemental information can be found in the original Notice of Availability (NOA) published in the Federal Register.)

DATES: Consistent with 43 Code of Federal Regulations (CFR) 1610.7-2, a 60-day public review of the ACEC information and comment submittal period will start on the date that this notice appears in the Federal Register.

ADDRESSES: Comments must be received by or before the end of the 60-day comment period and written comments must be submitted as follows:

1. Comments may be provided via the Rawlins RMP Revision Web site at: http://www.blm.gov/rmp/wy/rawlins/; the Web site is designed to allow commenters to submit comments electronically by resource subject directly onto a comment form posted on the Web site. Comments may be uploaded in an electronic file directly to the above Web site.

2. Written comments may be mailed or delivered to the BLM at: Rawlins RMP/EIS, Bureau of Land Management Rawlins Field Office, 1300 North Third Street, P.O. Box 2407, Rawlins, Wyoming 82301.

3. Comments may be sent by facsimile to (307) 328-4224.

The BLM will only accept comments if they are submitted in the methods described above. To be given consideration by the BLM, comment submittals must include the commenter's name and street address. Whenever possible, please include reference to either the page or section in the Draft RMP/EIS to which the ACEC related comment applies. To facilitate analysis of comments and information submitted, BLM encourages commenters to submit comments in an electronic format through the Web site.

Before including your address, phone number, e-mail address, or other personal identifying information in your comment, be advised that your entire comment—including your personal identifying information—may be made publicly available at any time. While you can ask us in your comment to withhold from public review your personal identifying information, we cannot guarantee that we will be able to do so. All submissions from organizations or businesses, will be available for public inspection in their entirety.

Copies of the Draft RMP/EIS were sent to affected Federal, State, and local government agencies and interested parties when the document first became available. Additional copies have been supplied to interested parties on request. There are a limited number of hard copies available upon request. The document was posted electronically, and is still available for public review on the following Web site: http://www.blm.gov/rmp/wy/rawlins/. Copies of Draft RMP/EIS are also available for public inspection at the following locations:

• Bureau of Land Management, Wyoming State Office, 5353 Yellowstone Road, Cheyenne, Wyoming 82003

• Bureau of Land Management, Rawlins Field Office, 1300 N. Third Street, Rawlins, Wyoming 82301

FOR FURTHER INFORMATION CONTACT: Mark Storzer, Field Manager, or John Spehar, Rawlins RMP Team Leader, BLM Rawlins Field Office, 1300 N. Third Street, Rawlins, Wyoming 8230; or by telephone at (307) 328-4200.

SUPPLEMENTARY INFORMATION: The following description of alternatives considered in the Draft RMP/EIS is to provide context for reviewing the proposed ACECs. The Draft RMP/EIS documents the direct, indirect, and cumulative environmental impacts of four alternatives for management of BLM-administered public lands within the Rawlins Field Office. When completed, the revised RMP will fulfill the obligations set forth by the National Environmental Policy Act (NEPA), the Federal Land Policy and Management Act, and associated Federal regulations. Four alternatives are analyzed in detail:

1. Alternative 1 (No Action Alternative): Continues existing management direction;

2. Alternative 2: Encourages development and use opportunities while minimizing impacts to cultural and natural resources;

3. Alternative 3: Fosters conservation of natural and cultural resources while providing for compatible development and use; and

4. Alternative 4: Provides development opportunities while protecting sensitive resources (Agency Preferred Alternative).

There are four ACECs in the existing land use plan, the Great Divide RMP (1990): Como Bluff National Natural Landmark/ACEC (1,690 acres); Sand Hills ACEC (7,960 acres); Jep Canyon ACEC (13,810 acres); and the Shamrock Hills ACEC (18,400 acres). There are 11 potential new ACECs proposed in the Draft RMP/EIS and one proposed expansion of the Sand Hills ACEC. The ACECs are:

• Stratton Sagebrush Steppe Research Area ACEC (5,530 acres): Values of Concern—continuous 30 year historic watershed study and infrastructure. Use Limitations—closed to locatable mineral entry, mineral material disposal, and land tenure adjustments, including sales.

• Chain Lakes ACEC (30,560 acres): Values of Concern—unique, alkaline desert lake system and wildlife habitat. Use Limitations—may include use limitations to protect the desert lake system and its wetlands.

• Laramie Peak ACEC (18,940 acres): Values of Concern—crucial winter habitat for big game and habitat for federally-listed threatened and endangered and BLM sensitive species. Use Limitations—proposed locatable mineral use, exploration and development when five or more acres of surface disturbance require a plan of operation.

• Red Rim Daley ACEC (11,100 acres): Values of Concern—crucial winter habitat for pronghorn antelope. Use Limitations—plans of operations requirement for locatable mineral exploration and development for disturbance of 5 or more acres.

• Cave Creek Cave ACEC (name changed from Shirley Mountain Bat Cave, 240 acres): Values of Concern—cave resources including hibernaculum for several species of bats. Use Limitations—seasonal closure of the Cave Creek cave gate from October 15 through April 30.

• Laramie Plains Lakes ACEC (1,600 acres): Values of Concern—potential habitat and reintroduction sites for the endangered Wyoming toad. Use Limitations—activities may be limited to protect or avoid Wyoming toad habitat.

• Historic Trails ACEC (40,990 acres): Values of Concern—the Overland and Cherokee Trails and the Rawlins-to-Baggs and Rawlins-to-Fort Washakie Freight Roads. Use Limitations—use/activities limited to maintain visual integrity from the trails; also includes minimizing the extent of surface disturbance, oil and gas lease stipulations regarding occupancy and closure of some areas near or including the trails, and closure to locatable mineral entry and operations.

• Blowout Penstemon ACEC (17,050 acres): Values of Concern—occupied and potential sand dune habitat for the endangered blowout penstemon. Use Limitations—closure to mineral entry and mineral material disposals.

• Upper Muddy Creek Watershed/Grizzly ACEC (35,200 acres): Values of Concern—unique fish habitats that support a rare community of native Colorado River Basin fish (bluehead sucker, flannelmouth sucker, roundtail chub, mountain sucker, speckled dace), reintroduction area for the Colorado River cutthroat trout and big game crucial winter range. Use Limitations—motorized vehicle use limited to designated roads and vehicle routes and seasonal closures.

• White-Tailed Prairie Dog ACEC (109,650 acres): Values of Concern—white tailed prairie dog complexes (element of the sagebrush steppe ecosystem). Use Limitations—motorized vehicle use limited to designated roads/vehicle routes.

• High Savery Dam ACEC (530 acres): Values of Concern—Colorado River cutthroat trout fishery and potential for reintroduction. Use Limitations—public access restricted to foot travel only.

• JO Ranch expansion of Sand Hills ACEC (4,740 acres): Values of Concern—same as Sand Hills with historic cultural properties through land exchange. Use Limitations—potential mineral resources use limitations dependent on surface ownership and use limitations may include those needed to protect and preserve the historical and cultural resources including the JO Ranch buildings and irrigation system and the stage stop along the historical Rawlins-to-Baggs Freight Road.

Alternative 1 proposes to maintain the status of the four existing ACECs identified in the Great Divide RMP. Alternative 2 proposes to eliminate the four ACECs established in the Great Divide RMP to areas of general management. No new ACECs are proposed. Alternative 3 proposes to continue to maintain the status of two existing ACECs, Sand Hills and Como Bluffs, and establish all of the new (11) ACECs listed above. (Alternative 3 does not include the JO Ranch expansion of the Sand Hills ACEC.)

As a result of public scoping and the alternative development process, Alternative 4 (Agency Preferred Alternative), proposes the following ACECs: Maintain the status of one existing ACEC, Sand Hills (7,960 acres) and include the JO Ranch expansion (4,740 acres), and establish two new ACECs: Cave Creek Cave (240 acres) and Blowout Penstemon (17,050 acres).

Donald A. Simpson,
Associate State Director.

[FR Doc. E7-10735 Filed 6-4-07; 8:45 am]

BILLING CODE 4310-22-P